DEPARTMENT OF LABOR

Mine Safety and Health Administration

Petitions for Modification of Application of Existing Mandatory Safety Standard

AGENCY: Mine Safety and Health Administration, Labor.

ACTION: Notice.

SUMMARY: This notice is a summary of petition for modification submitted to the Mine Safety and Health Administration (MSHA) by the parties listed below.

DATES: All comments on the petition must be received by MSHA's Office of Standards, Regulations, and Variances on or before September 23, 2019.

ADDRESSES: You may submit your comments, identified by “docket number” on the subject line, by any of the following methods:

1. Email: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect a copy of the petition and comments during normal business hours at the address listed above.

MSHA will consider only comments postmarked by the U.S. Postal Service or proof of delivery from another delivery service such as UPS or Federal Express on or before the deadline for comments.

FOR FURTHER INFORMATION CONTACT: Sheila McConnell, Office of Standards, Regulations, and Variances at 202-693-9447 (voice), mcconnell.sheila.a@dol.gov (email), or 202-693-9440 (fax). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2019-021-C.

Petitioner: Monongalia County Coal Company, P.O. Box 72, Brave, Pennsylvania 15316.

Mine: Monongalia County Mine, MSHA I.D. No. 46-01968, located in Monongalia County, West Virginia.

Regulation Affected: 30 CFR 75.503 (Permissible electric face equipment; maintenance) and 18.35(a)(5)(i) (Portable (trailing) cables and cords).

Modification Request: The petitioner seeks modification of the existing standard to permit trailing cable lengths of up to 1,000 feet in all sections.

The petitioner states that:

(1) The petitioner is developing longwall panels (gate sections) as part of a continuing mining cycle. The longwall development panels consist of a three or four entry system with a maximum of 300-foot blocks to improve roof and abutment pressure control during longwall mining. Petitioner states that ventilation is also improved by limiting the number of stoppings, which have a built-in ventilation pressure loss factor. Additionally, pillar stability is increased due to the increased block sizes associated with the necessity of longer trailing cables. There is a need for cable lengths greater than 600, 700, or 800 feet for this development system.

(2) The petitioner is also developing mains and submains sections as part of a continuing mining cycle. These sections consist of a six to eight entry system with a maximum of 300-foot blocks to improve roof and abutment pressure control during longwall mining. Petitioner states that ventilation is also improved by limiting the number of stoppings, which have a built-in ventilation pressure loss factor. Additionally, pillar stability is increased due to the increased block sizes associated with the necessity of longer trailing cables. There is a need for cable lengths greater than 600, 700, or 850 feet for this development system.

(3) The need to add additional electrical components such as distribution boxes and/or electrical connections throughout the section to achieve required cable length is decreased.

(4) Provided with this petition is a summary of short-circuit calculations justifying the instantaneous trip setting for the circuit breakers protecting the trailing cables supplying power to continuous mining section machines in the Monongalia County Mine.

(5) As an alternative to specific compliance with 30 CFR 75.503, (18.35), the petitioner proposes the following:

—The petition applies only to trailing cable supplying three-phase, 995-volt power to continuous mining machines and trailing cable supplying three-phase, 575-volt power to loading machines, shuttle cars, roofbolters, section ventilation fans, and de-gas drills.

—The maximum length of the 995- and 575-volt trailing cables will be 1,000 feet.

—The 995-volt continuous mining machine trailing cables will not be smaller than 2/0. The 575-volt trailing cables for loading machines, small roof bolters, de-gas drills, and section ventilation fans will not be smaller than No. 2 American Wire Gauge (AWG). The 575-volt large roof bolters and AC shuttle car trailing cables will not be smaller than No. 4 AWG.

—All circuit breakers used to protect2/0 trailing cables exceeding 850 feet in length will have instantaneous trip units calibrated to trip at 1,500 amperes. The trip setting of these circuit breakers will be sealed or locked, and will have a permanent, legible labels. Each label will identify the circuit breaker as being suitable for protecting 2/0 cables. The label will be maintained to be legible.

—Replacement instantaneous trip units used to protect 2/0 trailing cables will be calibrated to trip at 1,500 amperes and this setting will be sealed or locked.

—All circuit breakers used to protect No. 2 AWG trailing cables exceeding 700 feet in length will have instantaneous trip units calibrated to trip at 800 amperes. The trip setting of these circuit breakers will be sealed or locked, and will have permanent, legible labels. Each label will identify the circuit breaker as being suitable for protecting No. 2 AWG cables. The label will be maintained to be legible.

—Replacement instantaneous trip units used to protect No. 2 AWG trailing cables will be calibrated to trip at 800 amperes and this setting will be sealed or locked.

—All circuit breakers used to protect No. 4 AWG trailing cables exceeding 600 feet in length will have instantaneous trip units calibrated to trip at 500 amperes. The trip setting of these circuit breakers will be sealed or locked, and will have permanent, legible labels. Each label will identify the circuit breaker as being suitable for protecting No. 4 AWG cables. The label will be maintained to be legible.

—Replacement instantaneous trip units used to protect No. 4 AWG trailing cables, will be calibrated to trip at 500 amperes and this setting will be sealed or locked.

—At the beginning of each production shift, persons designated by the operator will visually examine the trailing cables to ensure that the cables are in safe operating condition and that the instantaneous settings of the specially calibrated breakers do not have seals or locks removed and that they do not exceed the settings stipulated in Paragraphs items 3, 4, and 5, under Item No. 5.

—Any trailing cable that is not in safe operating condition will be removed from service immediately and repaired or replaced.

—Each splice or repair in the trailing cables will be made in a workmanlike manner and in accordance with the instructions of the manufacturer of the splice or repair materials. The outer jacket of each splice or repair will be vulcanized with flame-resistant material or made with material that has been accepted by MSHA as flame-resistant.

—In the event the mining methods or operating procedures cause or contribute to the damage of any trailing cable, the cable will be removed from service immediately and repaired or replaced. Also, additional precautions will be taken to ensure that in the future the cable is protected and maintained in safe operating condition.

—Permanent warning labels will be installed and maintained on the cover(s) of the power center identifying the location of each sealed or locked short-circuit protection device. These labels will warn miners not to change or alter the short-circuit settings.

—The petitioner's alternative method will not be implemented until all miners who have been designated to examine the integrity of seals or locks and to verify the short-circuit settings and proper procedures for examining trailing cables for defects and damage have received all the elements of training specified in this petition.

—Within 60 days after the proposed decision and order becomes final, the petitioner will submit proposed revisions for the approved 30 CFR part 48 training plan to the District Manager. The training will include the following elements:

a. Mining methods and operating procedures that will protect the trailing cables against damage;

b. The proper procedures for examining trailing cables to ensure the cables are in safe operating condition;

c. The hazards of setting the circuit breakers too high to adequately protect the trailing cables; and

d. How to verify that the circuit interrupting device(s) protecting the trailing cable(s) are properly set and maintained.

The procedure as specified in 30 CFR 48.3 for approval of proposed revisions to already approved training plans will apply.

The petitioner asserts that the proposed alternative method will at all times guarantee no less than the same measure of protection afforded by the existing standard.

Docket Number: M-2019-022-C.

Petitioner: Sunrise Coal, LLC, 12661 N Agricare Road, Oaktown, Indiana 47561.

Mine: Oaktown Fuels No. 1, MSHA I.D. No. 12-02394, located in Knox County, Indiana.

Regulation Affected: 30 CFR 75.500(d) (Permissible electric equipment).

Modification Request: The petitioner requests a modification of the existing standard to permit the use of nonpermissible, low-voltage or battery-powered electronic testing and diagnostic equipment in or inby the last open crosscut.

The petitioner states that:

(1) The nonpermissible, low-voltage or battery-powered electronic testing and diagnostic equipment to be used includes laptop computers; oscilloscopes; vibration analysis machines; cable fault detectors; point temperature and distance probes, infrared temperature devices; insulation testers; voltage, current, and resistance meters and power testers; electronic tachometers, signal analyzer and ultrasonic measuring devices; and other similar testing and diagnostic equipment.

(2) All nonpermissible, low-voltage or battery-powered electronic testing and diagnostic equipment to be used in or inby the last open crosscut will be examined prior to use by a certified person, as defined in 30 CFR 75.153, to ensure equipment is being maintained in a safe operating condition.

(3) The examinations of the nonpermissible, low-voltage or battery-powered electronic testing and diagnostic equipment will include:

—Inspecting the contact points to ensure a secure connection to the battery;

—Reinserting the battery and powering up and shutting down to ensure proper connections; and

—Checking the battery compartment cover or battery attachment to ensure that it is securely fastened.

(4) The results of such inspections will be recorded in the examination book prior to the equipment being used underground and will be made available to MSHA and the miners at the mine, on request.

(5) A qualified person, as defined in 30 CFR 75.151, will continuously monitor for methane immediately before and during the use of nonpermissible, low-voltage or battery-powered electronic testing and diagnostic equipment in or inby the last open crosscut.

(6) Nonpermissible, low-voltage or battery-powered electronic testing and diagnostic equipment will not be used if methane is detected in concentrations at or above one percent. When a one percent or more methane concentration is detected while the nonpermissible, low-voltage or battery-powered electronic testing and diagnostic equipment is being used, the equipment will be deenergized immediately and withdrawn outby the last open crosscut.

(7) All hand-held methane detectors will be MSHA-approved and maintained in permissible and proper operating condition.

(8) All electronic testing and diagnostic equipment will be used in accordance with the manufacturer's recommendations.

(9) Qualified personnel engaged in the use of electronic testing and diagnostic equipment will be trained to recognize the hazards and limitations associated with the use of such equipment.

The petitioner asserts that the proposed alternative method will at all times guarantee no less than the same measure of protection afforded by the existing standard.

Docket Number: M-2019-023-C.

Petitioner: Sunrise Coal, LLC, 12661 N Agricare Road, Oaktown, Indiana 47561.

Mine: Oaktown Fuels No. 2, MSHA I.D. No. 12-02418, located in Knox County, Indiana.

Regulation Affected: 30 CFR 75.500(d) (Permissible electric equipment).

Modification Request: The petitioner requests a modification of the existing standard to permit the use of nonpermissible, low-voltage or battery-powered electronic testing and diagnostic equipment in or inby the last open crosscut.

The petitioner states that:

(1) The nonpermissible, low-voltage or battery-powered electronic testing and diagnostic equipment to be used includes laptop computers; oscilloscopes; vibration analysis machines; cable fault detectors; point temperature and distance probes, infrared temperature devices; insulation testers; voltage, current, and resistance meters and power testers; electronic tachometers, signal analyzer and ultrasonic measuring devices; and other similar testing and diagnostic equipment.

(2) All nonpermissible, low-voltage or battery-powered electronic testing and diagnostic equipment to be used in or inby the last open crosscut will be examined prior to use by a certified person, as defined in 30 CFR 75.153, to ensure equipment is being maintained in a safe operating condition.

(3) The examinations of the nonpermissible, low-voltage or battery-powered electronic testing and diagnostic equipment will include:

—Checking the instrument for any physical damage and the integrity of the case;

—Removing the battery and inspecting for corrosion;

—Inspecting the contact points to ensure a secure connection to the battery;

—Reinserting the battery and powering up and shutting down to ensure proper connections; and

—Checking the battery compartment cover or battery attachment to ensure that it is securely fastened.

(4) The results of such inspections will be recorded in the examination book prior to the equipment being used underground and will be made available to MSHA and the miners at the mine, on request.

(5) A qualified person, as defined in 30 CFR 75.151, will continuously monitor for methane immediately before and during the use of nonpermissible, low-voltage or battery-powered electronic testing and diagnostic equipment in or inby the last open crosscut.

(6) Nonpermissible, low-voltage or battery-powered electronic testing and diagnostic equipment will not be used if methane is detected in concentrations at or above one percent. When a one percent or more methane concentration is detected while the nonpermissible, low-voltage or battery-powered electronic testing and diagnostic equipment is being used, the equipment will be deenergized immediately and withdrawn outby the last open crosscut.

(7) All hand-held methane detectors will be MSHA-approved and maintained in permissible and proper operating condition.

(8) All electronic testing and diagnostic equipment will be used in accordance with the manufacturer's recommendations.

(9) Qualified personnel engaged in the use of electronic testing and diagnostic equipment will be trained to recognize the hazards and limitations associated with the use of such equipment.

The petitioner asserts that the proposed alternative method will at all times guarantee no less than the same measure of protection afforded by the existing standard.

Roslyn Fontaine,
Deputy Director, Office of Standards, Regulations, and Variances.

[FR Doc. 2019-18097 Filed 8-21-19; 8:45 am]

BILLING CODE 4520-43-P